DEPARTMENT OF STATE

[Public Notice 9027]

Notice of Receipt From Pembina Prairie Pipeline (U.S.A.) Ltd., of a Notification Concerning Its Acquisition of Vantage Pipeline US LP, Which Holds a Presidential Permit To Operate and Maintain Pipeline Facilities on the Border of the United States and Canada

AGENCY: Department of State.

ACTION: Notice.

SUMMARY: Notice is hereby given that the Department of State (“Department”) has received from Pembina Prairie Pipeline (U.S.A.) Ltd. (“Pembina”) notice that Pembina has acquired Vantage Pipeline US LP (“Vantage”), which owns, operates, and maintains pipeline facilities (“Vantage Pipeline”) that are permitted under a 2013 Presidential Permit issued to Vantage. Vantage will continue to own and operate the Vantage Pipeline.

Pembina's notification is available at http://www.state.gov/e/enr/applicant/applicants/index.htm. Pembina U.S.A. is a corporation duly organized under the laws of Delaware with its headquarters at Corporation Trust Center, 1209 Orange St., Wilmington, DE 19801. Pembina U.S.A. is owned by Pembina Prairie Pipeline Holdco Ltd., which is an Alberta corporation that is owned by Pembina Pipeline Corporation (“PPC”). PPC is the ultimate parent of Pembina U.S.A.

Under E.O. 13337 the Secretary of State is designated and empowered to receive all applications for Presidential Permits for the construction, connection, operation, or maintenance at the borders of the United States, of facilities for the exportation or importation of liquid petroleum, petroleum products, or other non-gaseous fuels to or from a foreign country. The Department of State is circulating this notification to concerned federal agencies for comment. The Department of State will assess the U.S. national interest with regard to permitting for the Vantage pipeline border facilities in light of the change in upstream ownership of the Vantage Pipeline.

Consistent with Public Notice 5092, (Procedures for Issuance of a Presidential Permit Where There Has Been a Transfer of the Underlying Facility, Bridge or Border Crossing for Land Transportation, 70 FR30990, issued on May 31, 2005), the Department typically does not conduct environmental analysis when deciding whether to issue a permit that reflects a change in ownership or control of an existing border facility, where that change in ownership or control is not accompanied by changes to the facilities or their use as authorized by the existing permit unless information is brought to the Department's attention in connection with the application process that the transfer potentially would have a significant impact on the quality of the human environment.

DATES: Interested parties are invited to submit comments within 30 days of the publication date of this notice on http://www.regulations.gov with regard to the Department of State's consideration of Pembina's notification. To submit a comment, go to http://www.regulations.gov, enter the title of this Notice into the search field and follow the prompts. Or: To submit a comment, go to http://www.regulations.gov, enter Docket no. DOS-2015-0006, and follow the prompts. Written comments should be addressed to: Mr. Chris Davy, U.S. Department of State, 2201 C Street NW., Suite 4843, Washington, DC 20520.

Comments are not private. They will be posted on the site. The comments will not be edited to remove identifying or contact information, and the State Department cautions against including any information that one does not want publicly disclosed. The State Department requests that any party soliciting or aggregating comments received from other persons for submission to the State Department inform those persons that the State Department will not edit their comments to remove identifying or contact information, and that they should not include any information in their comments that they do not want publicly disclosed.

FOR FURTHER INFORMATION CONTACT: Office of Energy Diplomacy, Energy Resources Bureau (ENR/EDP/EWA) Department of State, 2201 C St. NW., Ste 4843, Washington, DC 20520, Attn: Chris Davy, Tel: 202-647-7553.

Dated: January 27, 2015.
Chris Davy,
Office Director, Office of Europe, Western Hemisphere and Africa, Bureau of Energy Resources, U.S. Department of State.

[FR Doc. 2015-02468 Filed 2-5-15; 8:45 am]

BILLING CODE 4710-AE-P